DEPARTMENT OF JUSTICE

Antitrust Division

Notice Pursuant to the National Cooperative Research and Production Act of 1993—Information Warfare Research Project Consortium

Notice is hereby given that, on January 11, 2023, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Adaptive Dynamics, Inc., San Diego, CA; Altagrove LLC, Herndon, VA; Continental Electronics Corp., Dallas, TX; Cubic Digital Intelligence, Inc., Ashburn, VA; Cyber DI LLC, Great Falls, VA; CyOne, Inc., Aberdeen, MA; DISH Wireless LLC, Englewood, CO; East Stout Corp., Washington, DC; Enveil, Inc., Fulton, MD; Integration Innovation, Inc., Huntsville, AL; Kratos RT Logic, Inc., Colorado Springs, CO; NIC4, Inc., Tampa, FL; North Dakota State University, Fargo, ND; Phelps2020, Inc., Knoxville, TN; R-DEX Systems, Inc., Woodstock, GA; SDA Solutions LLC, Triangle, VA; Snowbird Agility, Inc. Frederick, MD; Tangram Flex, Inc., Dayton, OH; United Federal Systems, Inc., Manassas, VA; University of Maine System, Orono, ME; VoiceIt Technologies, Inc., Minneapolis, MN have been added as parties to this venture.

Also, Aarna Networks, Inc., San, Jose, CA; Aegis Power Systems, Inc., Muprhy, NC; Ansys, Inc., Canonsburg, PA; Black Cape, Inc., Arlington, VA; BlackHorse Solutions, Inc., Herndon, VA; Burke Consortium, Inc., Alexandria, VA; Certus Core LLC, Tampa, FL; Chenega Decision Sciences LLC, Anchorage, AK; Cognovi Government Services, Dayton, OH; Cohere Solutions LLC, Reston, VA; DataHouse USA, Inc., Honolulu, HI; DataSource, Inc., McLean, VA; Datron World Communications, Inc., Vista, CA; Decision Lens, Inc., Arlington, VA; Dutch Ridge Consulting Group, Beaver, PA; Emagine IT, Fairfax, VA; Everactive, Inc., Santa Clara, CA; FUTURA Cyber, Inc., Dedham, MA; Halfaker and Associates LLC, Arlington, VA; Hegarty Research LLC, McLean, VA; High Tide Technology LLC, North Charleston, SC; II-VI Aerospace & Defense, Inc., Murrieta, CA; Improbable LLC, Arlington, VA; Intelligent Automation, Inc., Rockville, MD; Interloc Solutions, Inc., Seattle, WA; KeyLogic Systems LLC, Morgantown, WV; Management Services Group, Inc. dba Global Technical Systems, Virginia Beach, VA; Micro USA, Inc., Poway, CA; NanoVMs, Inc., San Francisco, CA; Pathfinder Wireless Corp., Seattle, WA; PGFM Solutions LLC, Philadelphia, PA Pinnacle Consulting Team LLC, Bridgeton, MO; Research Innovations, Inc., Alexandria, VA; RMA Associates, Arlington, VA; Scalable Network Technologies, Inc., Culver City, CA; ServiceNow, Inc., Santa Clara, CA; Technical Systems Integration, Inc., Chesapeake, VA; TurbineOne LLC, San Francisco, CA; Wind River Systems, Inc., Alameda, CA; Wind Talker Innovations, Inc., Fife, WA; Wyle Laboratories, Inc., Lexington Park, MD have withdrawn as parties to this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on October 14, 2022. A notice was published in the Federal Register pursuant to Section 6(b) of the Act on November 8, 2022 (87 FR 67493).

Suzanne Morris,
Deputy Director of Civil Enforcement Operations, Antitrust Division.

[FR Doc. 2023-01399 Filed 1-24-23; 8:45 am]

BILLING CODE P